DEPARTMENT OF THE INTERIOR

Fish and Wildlife Service

RIN 1018-AG47

Policy on Maintaining the Biological Integrity, Diversity, and Environmental Health of the National Wildlife Refuge System: Delay of Effective Date

AGENCY: Fish and Wildlife Service, Interior.

ACTION: Final policy; delay of effective date.

SUMMARY: In accordance with the memorandum of January 20, 2001, from the Assistant to the President and Chief of Staff, entitled “Regulatory Review Plan,” published in the Federal Register on January 24, 2001 (66 FR 7701), this document temporarily delays for 60 days the effective date of the document entitled “Policy on Maintaining the Biological Integrity, Diversity, and Environmental Health of the National Wildlife Refuge System; Notice,” published in the Federal Register on January 16, 2001 (66 FR 3809). This policy guides personnel of the National Wildlife Refuge System in implementing the clause of the National Wildlife Refuge System Improvement Act of 1997 directing the Secretary of the Interior to ensure that the “biological integrity, diversity, and environmental health” of the System is maintained.

DATES: The effective date of the Policy on Maintaining the Biological Integrity, Diversity, and Environmental Health of the National Wildlife Refuge System published in the Federal Register on January 16, 2001, at 66 FR 3809, is delayed for 60 days, from February 15, 2001, to a new effective date of April 16, 2001.

FOR FURTHER INFORMATION CONTACT: Elizabeth Souheaver, Acting Chief, Division of Natural Resources, National Wildlife Refuge System, U.S. Fish and Wildlife Service, 4401 North Fairfax Drive, Room 670, Arlington, Virginia 22203; telephone (703) 358-1744.

SUPPLEMENTARY INFORMATION: To the extent that 5 U.S.C. section 553 applies to this action, this action is exempt from notice and comment because it constitutes a rule of procedure under 5 U.S.C. section 553(b)(A). Alternatively, the Department's implementation of this action without opportunity for public comment, effective immediately upon publication today in the Federal Register, is based on the good cause exceptions in 5 U.S.C. sections 553(b)(3)(B) and 553(d)(3), in that seeking public comment is impractical, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations.

Dated: February 2, 2001.
Timothy S. Elliott,
Acting Deputy Solicitor.

[FR Doc. 01-3223 Filed 2-7-01; 8:45 am]

BILLING CODE 4310-55-M